DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: This action was issued on January 30, 2026. See SUPPLEMENTARY INFORMATION for relevant dates.

FOR FURTHER INFORMATION CONTACT: OFAC: Associate Director for Global Targeting, 202-622-2420; Assistant Director for Sanctions Compliance, 202-622-2490 or https://ofac.treasury.gov/contact-ofac.

SUPPLEMENTARY INFORMATION:

Electronic Availability

The SDN List and additional information concerning OFAC sanctions programs are available on OFAC's website: https://ofac.treasury.gov.

Notice of OFAC Action

On January 30, 2026, OFAC determined that the property and interests in property subject to U.S. jurisdiction of the following persons are blocked under the relevant sanctions authorities listed below.

Entities

1. ZEDCEX EXCHANGE LTD, 71-75 Shelton Street, London WC2H 9JQ, United Kingdom; website www.zedcex.com; Additional Sanctions Information—Subject to Secondary Sanctions; Secondary sanctions risk: section 1(b) of Executive Order 13224, as amended by Executive Order 13886; Organization Established Date 22 Aug 2022; Organization Type: Financial and Insurance Activities; Digital Currency Address—TRX TCA9vmjsYw9MtPKEwRBtGhKFRfr4CLxJAv; alt. Digital Currency Address—TRX TGsNFrgWfbGN2gX25Wcf8oTejtxtQkvmEx; alt. Digital Currency Address—TRX TASWbk6X1wiTku5TMmMQYqYFvshVEtfJy8; alt. Digital Currency Address—TRX TTS9o5KkpGgH8cK9LofLmMAPYb5zfQvSNa; alt. Digital Currency Address—TRX TCzq6m2zxnQkrZrf8cqYcK6bbXQYAfWYKC; alt. Digital Currency Address—TRX TLvuvpfBKdxddxSsJefeiGCe9eVY8HUroE; alt. Digital Currency Address—TRX TNuA5CQ6LB4jTHoNrjEeQZJmcmhQuHMbQ7; Company Number 14311274 (United Kingdom) issued 22 Aug 2022 [SDGT] [IFSR] [IRAN-EO13902] (Linked To: ISLAMIC REVOLUTIONARY GUARD CORPS).

Designated pursuant to section 1(a)(iii)(C) of Executive Order 13224 of September 23, 2001, “Blocking Property and Prohibiting Transactions With Persons Who Commit, Threaten to Commit, or Support Terrorism,” 66 FR 49079, as amended by Executive Order 13886 of September 9, 2019, “Modernizing Sanctions To Combat Terrorism,” 84 FR 48041 (E.O. 13224, as amended), for having materially assisted, sponsored, or provided financial, material, or technological support for, or goods or services to or in support of, the ISLAMIC REVOLUTIONARY GUARD CORPS, a person whose property and interests in property are blocked pursuant to E.O. 13224, as amended and section 1(a)(i) of Executive Order 13902 of January 10, 2020, “Imposing Sanctions With Respect to Additional Sectors of Iran,” 85 FR 2003, 3 CFR, 2020 Comp., p. 299 (E.O. 13902), for operating in the financial sector of the Iranian economy.

2. ZEDXION EXCHANGE LTD (a.k.a. ZEDXION LIMITED), 71-75 Shelton Street, London WC2H 9JQ, United Kingdom; website www.zedxion.io; Additional Sanctions Information—Subject to Secondary Sanctions; Secondary sanctions risk: section 1(b) of Executive Order 13224, as amended by Executive Order 13886; Organization Established Date 17 May 2021; Organization Type: Financial and Insurance Activities; Company Number 13404089 (United Kingdom) issued 17 May 2021 [SDGT] [IFSR] [IRAN-EO13902] (Linked To: ISLAMIC REVOLUTIONARY GUARD CORPS).

Designated pursuant to section 1(a)(iii)(C) of E.O. 13224, as amended, for having materially assisted, sponsored, or provided financial, material, or technological support for, or goods or services to or in support of, ISLAMIC REVOLUTIONARY GUARD CORPS, a person whose property and interests in property are blocked pursuant to E.O. 13224, as amended and section 1(a)(i) of E.O. 13902 for operating in the financial sector of the Iranian economy.

Individuals

BILLING CODE 4810-AL-P

Bradley T. Smith,
Director, Office of Foreign Assets Control.

[FR Doc. 2026-02217 Filed 2-3-26; 8:45 am]

BILLING CODE 4810-AL-C